SMALL BUSINESS ADMINISTRATION

Data Collection Available for Public Comments

ACTION: 60 Day notice and request for comments.

SUMMARY: The Small Business Administration (SBA) intends to request approval, from the Office of Management and Budget (OMB) for the collection of information described below. The Paperwork Reduction Act (PRA) agencies to publish a notice in the Federal Register concerning each proposed collection of information before submission to OMB, and to allow 60 days for public comment in response to the notice. This notice complies with that requirement.

DATES: Submit comments on or before May 6, 2019.

ADDRESSES: Send all comments to Dena Moglia, Management Program Analyst, Office of Entrepreneurial Development, Small Business Administration, 409 3rd Street NW, Washington, DC 20416.

FOR FURTHER INFORMATION CONTACT: Dena Moglia, Management Program Analyst, Office of Entrepreneurial Development, 202-205-7034, dena.moglia@sba.gov; Curtis B. Rich, Management Analyst, 202-205-7030, curtis.rich@sba.gov.

SUPPLEMENTARY INFORMATION: The Emerging Leaders Initiative aims to assist established small businesses located in historically challenged communities with increasing their sustainability, attracting outside investment, and strengthening each community's economic base by creating jobs and providing valuable goods and services. These objectives are pursued by offering eligible business executives a 7-month intensive course focused on the skills essential to develop their companies, expand their resource networks, and increase their confidence and motivation. The course is designed to be hands-on and is composed of classroom sessions, out-of-class preparation work, and executive mentoring groups where participants can discuss their challenges. A broad range of topics is covered in the curriculum, including financial measures of business health, strategies for marketing, access to funding, and employee management and recruitment.

SBA plans to conduct annual performance-monitoring activities to assess the short- and intermediate-term outcomes of participants in the Emerging Leaders Initiative. The broad outcomes assessed will include satisfaction, changes in management behavior, and changes in economic outcomes, such as loans obtained and jobs created. Specifically, SBA plans to implement three instruments with the participants in each cohort: An intake assessment form at the start of the program to document baseline conditions, a satisfaction-oriented feedback form at the end of the program, and an annual outcome-oriented survey for 3 years after program completion. The latter instrument will document changes in key outcomes over a longer period, because job growth, revenue growth, profitability, and other economic outcomes of program participation are expected to manifest in the intermediate and long terms.

Title: “Emerging Leaders Initiatives”.

Description of Respondents: Established small businesses located in historically challenged communities.

Form Number: N/A.

Annual Responses: 4,434.

Annual Burden: 1,340.

Curtis Rich,
Management Analyst.

[FR Doc. 2019-04115 Filed 3-6-19; 8:45 am]

BILLING CODE P